DEPARTMENT OF THE INTERIOR

Bureau of Ocean Energy Management

[Docket No. BOEM-2024-0026]

Atlantic Wind Lease Sale 11 for Commercial Leasing for Wind Power Development on the U.S. Gulf of Maine Outer Continental Shelf—Final Sale Notice

AGENCY: Bureau of Ocean Energy Management, Interior.

ACTION: Final sale notice; request for comments.

SUMMARY: This Final Sale Notice (FSN) contains information pertaining to the areas available for commercial wind power leasing during Atlantic Wind Lease Sale 11 (ATLW-11) on the U.S. Outer Continental Shelf (OCS) in the Gulf of Maine. Specifically, this FSN details certain provisions and conditions of the leases, auction details, the lease form, criteria for evaluating competing bids, and procedures for award, appeal, and lease execution. The Bureau of Ocean Energy Management (BOEM) will offer eight leases for sale using an ascending clock auction with multiple-factor bidding: Lease OCS-A 0562, OCS-A 0563, OCS-A 0564, OCS-A 0565, OCS-A 0566, OCS-A 0567, OCS-A 0568, and OCS-A 0569 (lease areas). The first two lease areas (lease areas OCS-A 0562 and OCS-A 0563) comprise the North Region, and the remaining six lease areas comprise the South Region. Bidders are limited to bidding on no more than two lease areas at a time, and may not include in their bid more than one lease area in the North Region at a time. BOEM will use the BOEM Auction System for the lease sale. The lease areas are in the previously identified wind energy areas located in the Gulf of Maine offshore the States of Maine and New Hampshire and the Commonwealth of Massachusetts. The issuance of any lease resulting from this sale will not constitute approval of project-specific plans to develop offshore wind energy. Such plans, if submitted by the lessee, will be subject to environmental, technical, and public reviews prior to a BOEM decision on whether the proposed activity should be authorized.

DATES: BOEM will hold an online mock auction for potential bidders starting at 9:00 a.m. Eastern Daylight Time (EDT) on October 24, 2024. The monetary auction will be held online and will begin at 9:00 a.m. EDT on October 29, 2024. Additional details are provided in the section entitled, “Deadlines and Milestones for Bidders.”

FOR FURTHER INFORMATION CONTACT: Zachary Jylkka, Bureau of Ocean Energy Management, Zachary.Jylkka@boem.gov or (978) 491-7732; or Gina Best, Bureau of Ocean Energy Management, Gina.Best@boem.gov or (703) 787-1341.

SUPPLEMENTARY INFORMATION:

I. Background

a. Request for Interest (RFI): On August 19, 2022, BOEM published an RFI for the Gulf of Maine in the Federal Register (see 87 FR 51129). BOEM received 51 unique comments on the RFI. Five developers nominated areas for a commercial wind energy lease within the RFI Area.

b. Call for Information and Nominations (Call): On April 26, 2023, BOEM published a “Call for Information and Nominations for Commercial Leasing for Wind Power Development on the Gulf of Maine” (see 88 FR 25427). BOEM received 127 unique comments on the Call. Seven developers nominated areas for a commercial wind energy lease within the Call Area.

c. Area Identification (Area ID): An Area ID determination is a required regulatory step under the renewable energy competitive leasing process used to identify areas for environmental analysis and consideration for leasing. After the close of the Call comment period, BOEM initiated the Area ID process using information and input from stakeholders received up to that point.

BOEM and the National Oceanic and Atmospheric Administration's (NOAA) National Centers for Coastal Ocean Science (NCCOS) collaborated in employing an ocean planning tool (the NCCOS model) to help identify an area that appears suitable for floating offshore wind energy leasing and development in the Gulf of Maine. The Area ID process seeks to identify and minimize potential conflicts in ocean space as well as to mitigate interactions with other users and adverse interactions with the environment; the NCCOS model supports that effort. BOEM employed the NCCOS model during two distinct steps of the Area ID process: first, to model relative suitability within the boundaries of the Call Area to identify the draft Wind Energy Area (WEA); and second, to model the relative suitability within the boundaries of the draft WEA. After modifying the Area ID process in a Notice to Stakeholders, which is available at https://www.boem.gov/newsroom/notes-stakeholders/boem-enhances-its-processes-identify-future-offshore-wind-energy-areas, on October 19, 2023, BOEM announced the Gulf of Maine draft WEA and opened a 30-day public comment period. The methodology used to delineate the Gulf of Maine draft WEA is outlined in the “Draft NCCOS Report: A Wind Energy Area Siting Analysis for the Gulf of Maine Call Area.” ¹ The draft WEA covered approximately 3.5 million acres. BOEM considered the following non-exclusive information sources when identifying the draft WEA: comments and nominations received on the Call; information from the Gulf of Maine Intergovernmental Renewable Energy Task Force (Task Force); input from federally recognized Tribes; input from State and federal agencies; comments from stakeholders and ocean users, including the maritime community, offshore wind developers, and the commercial and recreational fishing industry; input from state and local governments on renewable energy goals; and information on domestic and global offshore wind market and technological trends.

¹ Available at https://www.boem.gov/sites/default/files/documents/renewable-energy/state-activities/Gulf_of_Maine_Draft%20WEA_Report_NCCOS_0.pdf.

BOEM completed the Area ID process after considering additional input received from stakeholders during the draft WEA comment period. BOEM published the final WEA on March 15, 2024. The final WEA comprises approximately 2 million acres and represents an 80% reduction from the size of the Call Area and a 43% reduction from the draft WEA. The final WEA has the potential to support generation of 32 gigawatts (GW) of clean energy, surpassing current State goals for offshore wind energy in the Gulf of Maine (13-18 GW, based on Massachusetts' and Maine's offshore wind goals and estimates provided by the regional grid operator, ISO-New England). The size of the final WEA allows BOEM to consider additional ways to reduce conflicts with users and resources, while also supporting the region's renewable energy goals. For additional information, the Gulf of Maine Area ID documentation can be found at https://www.boem.gov/renewable-energy/state-activities/maine/gulf-maine.

d. Proposed Sale Notice: On April 30, 2024, BOEM announced the Proposed Sale Notice (PSN) for the Gulf of Maine, which initiated a 60-day comment period lasting from May 1, 2024, through July 1, 2024. The eight proposed lease areas totaled 969,999 acres (944,422 developable acres), accounting for approximately half of the final WEA. In identifying these areas from the final WEA, BOEM prioritized avoidance of offshore fishing grounds and identification of vessel transit routes, while retaining sufficient acreage to support the region's offshore wind energy goals (13-18 GW based on information from Massachusetts, Maine, and ISO-New England). BOEM conducted several meetings focused primarily on the PSN, including: five virtual public meetings; one virtual meeting with Gulf of Maine Tribes; four in-person public meetings; and one in-person Task Force meeting. Additional information on these meetings is located on the BOEM website: https://www.boem.gov/renewable-energy/state-activities/gulf-maine-proposed-sale-notice-psn-public-meetings.

e. Environmental Reviews: On March 18, 2024, BOEM published a notice of intent to prepare an environmental assessment (EA) to consider potential environmental impacts of site characterization activities (e.g., biological, archaeological, geological, and geophysical surveys and core samples) and site assessment activities (e.g., installation of meteorological buoys) that are expected to take place after issuance of wind energy leases (89 FR 19354). When scoping the EA, BOEM sought comments on the issues and alternatives that should inform the EA. BOEM received 38 comment submissions, which can be found at https://www.regulations.gov in docket no. BOEM-2024-0020. On June 21, 2024, BOEM published a notice of availability (NOA) of a draft EA in the Federal Register (89 FR 52086). BOEM received 164 comment submissions, which can be found at https://www.regulations.gov in docket no. BOEM-2024-0030. In addition to the preparation of the draft EA, BOEM has initiated required consultations under the Endangered Species Act (ESA), the Magnuson-Stevens Fishery Conservation and Management Act (MSFCMA), and the Coastal Zone Management Act. The draft EA can be found at: https://www.boem.gov/renewable-energy/state-activities/gomeclea. On September 9, 2024, BOEM published a NOA of a final EA in the Federal Register (Docket Number BOEM-2024-0030). The final EA can be found here: https://www.boem.gov/renewable-energy/state-activities/gome_FinalEA. BOEM completed ESA consultation with the U.S. Fish and Wildlife Service on August 26, 2024. Consultation with the National Marine Fisheries Service (NMFS) for MSFCMA and ESA have not been completed prior to publication of this notice. BOEM has provided NMFS with a Biological Assessment for ESA consultation and an Essential Fish Habitat Assessment for MSFCMA consultation. Based on the assessments that BOEM prepared for these consultations, BOEM does not expect impacts that are significantly different in kind or magnitude from those it has identified in previous wind lease sales. BOEM will not execute any leases in the Gulf of Maine prior to the completion of all consultations. The EA and associated consultations informed BOEM's decision on whether to proceed with this FSN. BOEM will conduct additional environmental reviews upon receipt of a lessee's construction and operations plan (COP) if leases issued as a result of this sale reach that stage of development.

II. List of Eligible Bidders

BOEM has determined that the following 14 entities are legally, technically, and financially qualified to bid in the ATLW-11 auction, pursuant to 30 CFR 585.107 and 585.108:

Company name | Company No.
Avangrid Renewables, LLC | 15019
Equinor Wind US LLC | 15058
US Mainstream Renewable Power Inc | 15089
Diamond Wind North America, LLC | 15113
Hexicon USA, LLC | 15151
Seaglass Offshore Wind II, LLC | 15155
TotalEnergies SBE US, LLC | 15165
Pine Tree Offshore Wind, LLC | 15167
energyRe Offshore Wind Holdings, LLC | 15171
OW Gulf of Maine LLC | 15175
Repsol Renewables North America, Inc | 15180
Maine Offshore Wind Development LLC | 15181
Corio USA Projectco LLC | 15182
Invenergy NE Offshore Wind LLC | 15197

a. Affiliated Entities: On the Bidder's Financial Form (BFF), discussed in sections III(a)(i) and X below, eligible bidders must list any other eligible bidders with whom they are affiliated. For the purpose of identifying affiliated entities, a bidding entity is any individual, firm, corporation, association, partnership, consortium, or joint venture (when established as a separate entity) that is participating in the same auction. BOEM considers bidding entities to be affiliated when:

i. They own or have common ownership of more than 50 percent of the voting securities, or instruments of ownership or other forms of ownership, of another bidding entity. Ownership of less than 10 percent of a bidding entity constitutes a presumption of non-control that BOEM may rebut.

ii. They own or have common ownership of between 10 and 50 percent of the voting securities or instruments of ownership, or other forms of ownership, of another bidding entity, and BOEM determines that there is control upon consideration of factors including the following:

a. The extent to which there are common officers or directors.

b. With respect to the voting securities, or instruments of ownership or other forms of ownership: The percentage of ownership or common ownership, the relative percentage of ownership or common ownership compared to the percentage(s) of ownership by other bidding entities, if a bidding entity is the greatest single owner, or if there is an opposing voting bloc of greater ownership.

c. Shared ownership, operation, or day-to-day management of a lease, grant, or facility as those terms are defined in BOEM's regulations at 30 CFR 585.113.

iii. They are both direct, or indirect, subsidiaries of the same parent company.

iv. With respect to any lease(s) offered in this auction, they have entered into an agreement prior to the auction regarding the shared ownership, operation, or day-to-day management of such lease.

v. Other evidence indicates the existence of power to exercise control, such as evidence that one bidding entity has power to exercise control over the other, or that multiple bidders collectively have the power to exercise control over another bidding entity or entities.

Affiliated entities are not permitted to compete against each other in the auction. Where two or more affiliated entities have qualified to bid in the auction, the affiliated entities must decide prior to the auction which one (if any) will participate in the auction. If two or more affiliated entities attempt to participate in the auction, BOEM will disqualify those bidders from the auction.

III. Deadlines and Milestones for Bidders

This section describes the major deadlines and milestones in the auction process from publication of this FSN to execution of a lease issued pursuant to this sale.

a. FSN Waiting Period: During the period between FSN publication and the lease auction, qualified bidders must take several steps to remain eligible to participate in the auction.

i. Bidder's Financial Form: Each bidder must submit a BFF to BOEM to participate in the auction. The BFF must include each bidder's Conceptual Strategy for each bidding credit for which that bidder wishes to be considered. BOEM must receive each bidder's BFF on or before September 27, 2024, and it is each bidder's responsibility to ensure BOEM's timely receipt. If a bidder does not submit a BFF by this deadline, BOEM, in its sole discretion, may grant an extension to that bidder only if BOEM determines the bidder's failure to timely submit a BFF was caused by events beyond the bidder's control. The BFF can be downloaded at: https://www.boem.gov/renewable-energy/state-activities/maine/gulf-maine. Once BOEM has processed a bidder's BFF, the bidder is allowed to log into pay.gov and submit a bid deposit. For purposes of this auction, BOEM will not consider BFFs submitted for previous lease sales. An original signed BFF may be mailed to BOEM's Office of Renewable Energy Programs. A signed copy of the form may be submitted via email in PDF format to renewableenergy@boem.gov. A faxed copy will not be accepted. BFF submissions should be accompanied with a transmittal letter on company letterhead. The BFF must be executed on paper with a wet signature or with a digital signature affixed by an authorized representative listed on the bidder's current legal qualification card on file with BOEM, subject to 18 U.S.C. 1001 (Fraud and False Statements). Further information about the BFF can be found in the “Bidder's Financial Form” Section X of this notice.

ii. Bid Deposit: Once BOEM has processed a BFF and provided the appropriate information to the Office of Natural Resources Revenue (ONRR), ONRR will populate the Bid Deposit Forms and notify the bidders of access to pay.gov for the bid deposits. The bidder must log into https://www.pay.gov to submit a bid deposit. To participate in the mock auction and the monetary auction, each qualified bidder must provide a bid deposit of $2,000,000 per lease area sought for a maximum of two lease areas no later than October 11, 2024. BOEM will grant extensions to this deadline only if BOEM, in its sole discretion, determines that the failure to timely submit the bid deposit was caused by events beyond the bidder's control. Further information about bid deposits can be found in the “Bid Deposit,” Section X, of this notice.

b. Conducting the Auction:

i. Affirmative Action: Prior to bidding in the monetary auction, each bidder must file the Equal Opportunity Affirmative Action Representation Form BOEM-2032 (February 2020, available on BOEM's website at http://www.boem.gov/BOEM-2032/) and the Equal Opportunity Compliance Report Certification Form BOEM-2033 (February 2020, available on BOEM's website at http://www.boem.gov/BOEM-2033/) with the BOEM Office of Renewable Energy Programs. The forms can be submitted digitally via email to renewableenergy@boem.gov or mailed to the BOEM Office of Renewable Energy Programs. This certification is required by 41 CFR part 60 and Executive Order (E.O.) 11246, issued September 24, 1965, as amended by E.O. 11375, issued October 13, 1967, and by E.O. 13672, issued July 21, 2014. Both forms must be on file with BOEM for the bidder(s) prior to the execution of any lease contract.

ii. Notification of Eligibility for Bidding Credits: BOEM will notify each bidder of its eligibility for bidding credits prior to the Mock Auction.

iii. Mock Auction: BOEM will hold a Mock Auction on October 24, 2024, beginning at 9:00 a.m. EDT, which is open only to qualified bidders who have met the requirements and deadlines for auction participation, including submission of the bid deposit. The Mock Auction is intended to give bidders an opportunity to clarify auction rules, test the functionality of the auction software, and identify any potential issues that may arise during the auction.

iv. The Auction: On October 29, 2024, BOEM, through its contractor, will commence the multiple-factor auction. The first round of the auction will start at 9:00 a.m. EDT. The auction will proceed electronically according to a schedule to be distributed by the BOEM Auction Manager at the beginning of the auction, subject to any revisions (which will be communicated to bidders during the auction). BOEM anticipates that the auction will last one or two business days, but the auction may continue for additional business days, as necessary, until the auction ends in accordance with the procedures described in the “Auction Procedures” section of this notice.

v. Announce Provisional Winners: BOEM will announce the provisional winners of the lease sale after the auction ends.

c. From the Auction to Lease Execution:

i. Refund Non-Winners: Once the provisional winners have been announced, BOEM will provide the non-winners with a written explanation of why they did not win and will return their bid deposits.

ii. Department of Justice (DOJ) Review: DOJ will have 30 days in which to conduct an antitrust review of the auction, pursuant to 43 U.S.C. 1337(c).

iii. Delivery of the Lease: BOEM will send three lease copies to each provisional winner, with instructions on how to execute the lease. Once the lease has been fully executed, a provisional winner becomes an auction winner. The first year's rent is due 45 calendar days after the auction winners receive the lease copies for execution.

iv. Return the Lease: Within ten business days of receiving the lease copies, the auction winners must post financial assurance, pay any outstanding balance of their winning bids (i.e., winning cash bid less applicable bid deposits), and sign and return the three executed lease copies. A winner may request in writing an extension of the 10-business-day time limit and BOEM, in its discretion, may grant such extensions, pursuant to 30 CFR 585.225(d).

v. Execution of Lease: Once BOEM has received the signed lease copies and verified that all other required materials have been received, BOEM will make a final determination regarding its issuance of the leases and will execute the leases, if appropriate.

IV. Areas Offered for Leasing

In response to comments received on the PSN and consultation with Tribes and Federal agencies, BOEM is offering eight lease areas totaling 850,082 acres for sale through this notice (Figure 1). The eight areas in the PSN have been reduced by approximately 12% to address ocean user conflicts in response to comments and input from ocean users, including the fishing industry, the U.S. Coast Guard (USCG) and navigation interests, and NMFS. BOEM's designation of the eight lease areas offered in the FSN is informed by extensive coordination with BOEM's intergovernmental task force members, consultation and engagement with Tribes, stakeholder engagement, a partnership with NOAA's NCCOS to utilize spatial modeling to inform the identification of WEAs, and consideration of the 262 comments that BOEM received in response to the PSN. Based on the information gained through that coordination and comment review, BOEM has decided to remove from current leasing consideration several areas that overlap with a combination of offshore fishing activity, vessel transit, seafloor features identified by NMFS as potentially sensitive to impacts from offshore wind facility construction, and areas of relatively higher densities of North Atlantic right whale sightings and detections. The eight areas BOEM is offering for lease are described in Table 1. Descriptions of the proposed lease areas may be found in Addendum A of each of the proposed leases, located on BOEM's website at https://www.boem.gov/renewable-energy/state-activities/maine/gulf-maine. Several leases are subject to a lease stipulation that would prohibit surface or subsurface development in portions of the lease that are adjacent to corridors BOEM created between leases to facilitate existing and future vessel transit (see Addendum C, Section 10 of the lease). For those leases, the total “developable acres” are less than the total “lease acres” as described in Table 1.

Table 1—Gulf of Maine Lease Areas, Acres, and Assigned Region
Lease area ID | Region | Total acres | Developable acres | Net change from PSN (developable acres)
OCS-A 0562 | North | 97,854 | 97,854 | −23,485
OCS-A 0563 | North | 105,682 | 105,682 | −26,687
OCS-A 0564 | South | 98,565 | 93,756 | −11,743
OCS-A 0565 | South | 103,191 | 103,191 | −12,099
OCS-A 0566 | South | 96,075 | 96,075 | −31,313
OCS-A 0567 | South | 117,780 | 113,208 | −4,183
OCS-A 0568 | South | 124,897 | 116,363 | −7,026
OCS-A 0569 | South | 106,038 | 101,757 | 0
Total |  | 850,082 | 827,886 | −116,536
Average |  | 106,260 | 103,486 | −14,567

Figure 1—Gulf of Maine Lease Areas

a. Habitat Avoidance: Several commentors recommended BOEM remove proposed lease areas due to concerns about overlap with or proximity to sensitive benthic habitat. These comments contributed to the decision to remove the portions of four lease areas. Lease area 0562's (and to a lesser extent, 0563's) proximity to the Jeffreys Bank Habitat Management Area contributed to the decision to remove the northern portion of those lease areas. In addition, NMFS recommended BOEM avoid leasing in areas of potential hardbottom and high bathymetric change potentially suitable for coral habitat, as shown in the results of the spring 2024 R/V Connecticut surveys within lease areas 0567 and 0568. These data contributed to removals of acreage in the northeastern portion of 0567 and southeastern portion of 0568. BOEM also considered a comment from the wind industry requesting that BOEM focus any adjustments to lease boundaries on reductions to bathymetric heterogeneity.

b. Facilitating Fishing Activity: Throughout the Gulf of Maine planning and leasing process BOEM has prioritized avoidance of areas with high fishing vessel activity, revenue, and landings. Understanding that the best available commercial and recreational fishing data still have limitations and caveats, BOEM has engaged extensively with the fishing industry, fishing communities, and Tribes to bolster BOEM's understanding of the historic and current uses of the lease areas. These engagements and data analyses, combined with PSN comments, contributed to the decision to remove portions of seven lease areas: northern portion of 0562 and 0563 (herring and groundfish fishing effort); western edge of 0564, eastern edge of 0565, western portion of 0566, northeastern portion of 0567, and northwestern portion of 0568 (groundfish fishing effort).

c. Vessel Transit Considerations: As noted in the PSN, BOEM is aware of the overlap of lease areas 0562 and 0563 (as proposed in the PSN) with a portion of the USCG proposed Gulf of Maine fairway as described in the Maine, New Hampshire, Massachusetts Port Access Route Study (MNMPARS). While that fairway has not yet been established, ongoing consultation with the USCG, along with comments received through the PSN regarding concerns with transit, North Atlantic right whale detections, fishing effort, and habitat concerns, all contributed to BOEM's decision to remove the portion of lease areas 0562 and 0563 that previously overlapped with the proposed fairway.

d. As part of the PSN, BOEM also created three corridors between leases to facilitate existing and future transit through proposed lease areas.² These areas occur in a Northwest to Southeast direction, as well as in an East and West direction, and have a minimum width of 2.5 nautical miles (nm). Commenters generally supported these transit areas; however, several commenters also requested corridors be created between lease areas 0562 and 0563, as well as between 0565 and 0566. BOEM did not incorporate a corridor between 0562 and 0563, given the lease areas' relative isolation (no immediate surrounding lease areas) and the reduction in lease area size due to the avoidance of the proposed Gulf of Maine fairway (described above). Additionally, the Surface Structure Layout and Orientation lease stipulation (see Addendum C, Section 10 of the lease) applies to lease areas 0562 and 0563. BOEM has removed portions of lease areas 0565 and 0566 creating an approximate 3.5 nm wide corridor primarily to facilitate existing groundfishing activities (see Facilitating Fishing Activity section, above); however, this will also facilitate future transit through those lease areas.

² BOEM does not have the authority to designate transit lanes. The United States Coast Guard's (USCG) authority to provide safe access routes for the movement of vessel traffic is found in the Ports and Waterways Safety Act. See 46 U.S.C. 70003.

e. Map of the Area Proposed for Leasing: In addition to Figure 1, maps of the lease areas, and various GIS spatial files may be found on BOEM's website at https://www.boem.gov/renewable-energy/state-activities/maine/gulf-maine.

V. New and Modified Lease Stipulations

BOEM has modified or added several lease stipulations in Addendum C of each lease related to avoiding and minimizing potential future user conflicts and environmental impacts and project design. This section summarizes the major updates, but is not an exhaustive list of every change.

a. Changes related to the Modernization Rule: Since the publication of the PSN, the Renewable Energy Modernization Rule (89 FR 42602) has become effective, resulting in updates to BOEM's regulations. As a result, BOEM has modified the lease form for this sale to comport with those new regulations in three ways: simple citation and language updates; removing references to lease “terms” and replacing them with references to lease “periods” under 30 CFR 585.235; and revising the stipulations in Addendum C to adhere to the EA's standard operating conditions in a regulatory scheme where a lessee is no longer required to submit a Site Assessment Plan to install a meteorological and/or oceanographic buoy under 30 CFR 585.600(a)(1).

b. Surface Structure Layout and Orientation: BOEM has modified the lease stipulation “Surface Structure Layout and Orientation” (see Addendum C, Section 10 of the lease), which requires lessees with directly adjacent leases (e.g., OCS-A 0562 and 0563) to design a surface structure layout that contains two common lines of orientation across the adjacent leases (as described in Navigation and Vessel Inspection Circular 02-23). If the lessees cannot agree on such a layout, each lessee would be required to incorporate a setback area from the boundary of the adjacent lease within which area surface and subsurface structures are prohibited.

Based on comments received on the PSN, BOEM has decided to increase the previous setback distance from 1 nm to 1.25 nm. This would create a minimum 2.5 nm distance between the proposed facilities of each lessee along the lease boundary. Given uncertainties with how potential lessees will propose to construct their floating wind projects, BOEM reserves the right to require additional mitigations at the COP approval stage, including increases to this setback distance.³

³ See: ABS (American Bureau of Shipping). 2012. Floating Wind Turbines. Final Report: BSEE TAP 669 (Contract M11PC00004).

The previous 1 nm setback distance was based on USCG recommendations to alert mariners and search and rescue operations of a layout change between adjacent leases, not to create a corridor for navigation. However, BOEM recognizes that if future leaseholders of lease areas 0562 and 0563 do not choose to implement two common lines of orientation, a de facto corridor would be created and, therefore, vessels would likely use it for navigation and potentially for fishing activities. Therefore, BOEM increased the setback distance and included a provision to prohibit surface and subsurface occupancy in those setback areas, so that the combined setback area matches the width and provisions of the BOEM designated corridors between the leases in the southern region of the final WEA.

c. Habitat Impact Minimization Measures: BOEM recognizes that there are documented deep sea coral locations within one of the lease areas (0567),⁴ and recent surveys conducted by NOAA in spring 2024 indicated there may be additional habitat suitable for corals in lease areas 0567 and 0568. In response to these data, as well as PSN comments related to protection of living bottom habitat, BOEM has included a new lease stipulation requiring lessees to use the best available information to avoid and minimize bottom-disturbing activities to sensitive biological resources or habitats to the maximum extent practicable. Lessees are required to conduct geophysical surveys prior to geotechnical surveys to identify potential munitions of concern, unexploded ordinances, and archaeological resources. Information about sensitive biological resources gained through these surveys will become part of the best available information lessees must use when conducting bottom disturbing activities. Additional information on this topic can be found in Section VI: Potential Future Restrictions below.

⁴ See: https://www.ncei.noaa.gov/maps/deep-sea-corals/mapSites.htm.

d. Baseline Monitoring: In the PSN, BOEM proposed and requested comments on a potential lease stipulation that would require lessees to conduct baseline data collection activities for endangered and threatened marine mammals and their habitats in support of developing their COPs. BOEM received many comments in support and has decided to include a new stipulation requiring lessees to collect a minimum of three years of passive acoustic monitoring data for large whales in the Gulf of Maine North Atlantic Right Whale Critical Habitat to support the submission of the COP. The stipulation also includes requirements concerning data collection, transparency, and sharing. While this pre-COP requirement does not extend beyond large whales, BOEM refers lessees to additional baseline monitoring requirements, as outlined in BOEM's “Information Guidelines for a Renewable Energy Construction and Operations Plan (COP)” and “Final Information Needed for Issuance of a Notice of Intent (NOI) Under the National Environmental Policy Act (NEPA) for a Construction and Operations Plan (COP).” ⁵

⁵ https://www.boem.gov/cop-guidelines; https://www.boem.gov/sites/default/files/documents/renewable-energy/state-activities/BOEM%20NOI%20Checklist.pdf.

e. Hosted Engagement Opportunities: BOEM recognizes the importance of engagement with Tribes, stakeholders, and oceans users at all stages of the process and acknowledges comments received in response to the PSN that advocate for additional engagement opportunities. BOEM may initiate and host meetings after the lease sale to facilitate early and continuous engagement between Tribes, lessees, stakeholders, ocean users, and Federal partners. Therefore, BOEM has introduced a lease stipulation, Addendum C, 3.1.2, that requires lessees to engage in meeting planning and participate in the meetings in a meaningful manner. These provisions, combined with the enhanced engagement and progress reporting framework, are designed to encourage development of Gulf of Maine leases in a manner that reflects the community they are within.

VI. Potential Future Restrictions

a. Stellwagen Bank National Marine Sanctuary: Several of the Gulf of Maine lease areas are adjacent to the Stellwagen Bank National Marine Sanctuary. BOEM recognizes that future development within the lease areas may necessitate installation of energy transmission cables within the sanctuary boundaries in identified cable corridors. Under the authority of the National Marine Sanctuaries Act, NOAA may consider authorizing installation of energy transmission cables within sanctuary boundaries through one or more of the following mechanisms—General Permits, Authorizations, Certifications, and Special Use Permits.

b. Potential Future Restrictions to Mitigate Potential Conflicts with Department of Defense (DoD) Activities: Potential bidders should be aware of potential conflicts with DoD's existing uses of the OCS. BOEM has coordinated with DoD throughout the leasing process. This included consultation with the Military Aviation and Installation Assurance Siting Clearinghouse, which conducted a DoD assessment of the Gulf of Maine Draft WEA. The assessment identified potential impacts, which are described below.

• Air Surveillance and Radar: The North American Aerospace Defense Command (NORAD) mission may be affected by development of the lease areas. Similar impacts have been encountered with other lease areas along the Atlantic Coast and have been largely if not entirely mitigated. Considering both the expected height of offshore turbines and future cumulative wind turbine effects, adverse impacts can be mitigated through the use of Radar Adverse-impact Management (RAM) ⁶ and overlapping radar coverage. For projects where RAM mitigation is acceptable, BOEM anticipates including the following project approval conditions:

⁶ RAM is the technical process designed to minimize the adverse impact of obstruction interference on a radar system.

—Lessee will notify NORAD when the project is within 30-60 days of completion of commissioning of the last wind turbine generator (WTG) (meaning every WTG in the Project is installed with potential for blade rotation), and again when the project is complete and operational, for RAM scheduling;

—Lessee will contribute funds to DoD in the amount of no less than $80,000 toward the cost of DoD's execution of the RAM procedures for each radar system affected; and

—Lessee will curtail wind turbine operations for national security or defense purposes as described in the lease.

• Department of Navy operations: While the Navy did not identify any conflicts with the Final WEA, mitigations to resolve potential conflicts with ship testing may be necessary depending on the specific projects proposed within the lease areas.

BOEM may require the lessee to enter into an agreement with DoD to implement any necessary conditions and mitigate any identified impacts. BOEM will further coordinate with DoD and the lessee to eliminate potential conflicts throughout the project review stage, which may result in adding mitigation measures or terms and conditions as part of any plan approval.

c. Potential Future Restrictions to Mitigate Conflicts with Sand Resources: Potential bidders are advised that BOEM has identified sand resource areas in aliquots offshore the Gulf of Maine (Marine Minerals Information System (MMIS) Application https://mmis.doi.gov/BOEMMMIS). OCS sand resource areas are composed of sand deposits found on or below the surface of the OCS seabed. There are also potential sand resources in other areas in the Gulf of Maine not currently identified in MMIS datasets (e.g., Sand Resources and Atlantic OCS Aliquots with Sand Resources). If it is determined that accessible and significant OCS sand resources may be impacted by a proposed activity, BOEM may require lessees to undertake measures deemed economically, environmentally, and technically feasible to protect the resources to the maximum extent practicable, including minimizing, avoiding, and mitigating impacts to these resources. Measures may include modification of proposed transmission corridor locations if warranted. Neither BOEM nor the Bureau of Safety and Environmental Enforcement will approve future requests for in-place decommissioning of submarine cables in sand resource areas unless BOEM has determined that the submarine cables do not unduly interfere with other uses of the OCS, specifically sand resource use.

d. Potential Future Restrictions to Mitigate Possible Conflicts with Deep-Sea Corals and Biologically Sensitive Benthic Habitat: Potential bidders are advised that in the Gulf of Maine final WEA, NOAA has identified the presence of deep-sea corals and sponges, as well as hardbottom habitat areas suitable for sensitive deep-sea coral and sponge species. In addition, data collected during a spring 2024 research expedition within lease areas 0567 and 0568 indicates that there are additional areas that may contain sensitive or vulnerable hard-bottom features suitable for coral and sponge habitat.⁷

⁷ See: https://coastalscience.noaa.gov/news/research-expedition-explores-gulf-of-maine-near-proposed-offshore-wind-energy-lease-areas/.

BOEM has included a new lease stipulation for the leases within this FSN to require lessees to avoid or minimize bottom disturbing activities that may affect sensitive biological resources or habitats during any site assessment and site characterization activities to the maximum extent practicable. Furthermore, any site assessment and site characterization activities authorized by a lease would be subject to the protections for live-bottom features included in BOEM's programmatic consultation with the NMFS under ESA Section 7 (Addendum C, 5.2 in the leases). BOEM will conduct additional environmental review upon receipt of a lessee's COP and, as a condition of approval, may require avoidance measures to reduce potential impacts to sensitive benthic species and habitat within the lease area.

e. Existing Submarine Cable Infrastructure within Lease Areas: Potential bidders are advised that several lease areas overlap with existing submarine cable infrastructure. Lease areas 0564 and 0565 overlay the Amitié system and lease areas 0565 and 0566 overlay the EXA Atlantic system. The locations of these cables are available on the Northeast Ocean Data Portal. Lessees will be required to engage with submarine cable operators early in the project development process with the goal of deconflicting project plans before COPs are developed (see Addendum C, 3.1 of the leases).

f. Potential Impacts to Coastal Communities and National Park Service Properties: Potential bidders are advised that the National Park Service (NPS) has indicated that there are units and programs of the NPS System that would likely be affected by activities and development of the lease areas (e.g., air, visual, and nighttime resources). Future lessees will be required to engage with NPS, as required by the lease's Progress Report requirements and Agency Communication Plan, to ensure early and active information sharing, focused discussion of potential issues, and collaborative identification of solutions and mitigations. BOEM will also continue to work closely with NPS through regular interagency consultation and through collaborative work on future NEPA and National Historic Preservation Act analysis. Future lessees will also be required to engage with coastal communities on similar potential impacts.

VII. Lease Terms and Conditions

Along with this FSN, BOEM has made available the commercial lease forms that will be used to issue the leases from this sale. BOEM reserves the right to require compliance with additional terms and conditions associated with the approval of a site assessment plan (SAP) and COP. The leases may be found on BOEM's website at: https://www.boem.gov/renewable-energy/state-activities/maine/gulf-maine. Each lease includes the following attachments:

a. Addendum A (“Description of Leased Area and Lease Activities”);

b. Addendum B (“Lease Term and Financial Schedule”);

c. Addendum C (“Lease-Specific Terms, Conditions, and Stipulations”); and

d. Addendum D (“Project Easement”).

Addenda A, B, and C provide detailed descriptions of lease terms, conditions, and stipulations. Addendum D will be completed at the time of COP approval or approval with modifications.

VIII. Lease Financial Terms and Conditions

This section provides an overview of the required annual payments and financial assurances under the lease. Potential bidders should review the lease for more detailed information, including any changes from past practices.

a. Rent: Pursuant to 30 CFR 585.225(f) and 585.503, the first year's rent payment of $3 per acre is due within 45 days after the winning bidder receives a copy of the executed lease from BOEM. Lease area acreage is delineated in Addendum A of the lease and, if applicable, includes portions of a lease that do not allow surface occupancy. Thereafter, annual rent payments are due on each anniversary of the effective date of the lease (the “lease anniversary”) until your lease begins commercial operations. For example, for the 97,854 acres of Lease OCS-A 0562, the rent payment would be $293,562 per year until commercial operations begin. Once commercial operations begin, BOEM will charge rent only for the portions of the lease area remaining undeveloped (i.e., non-generating acreage), as described in the lease.

If the lessee submits an application for relinquishment of a portion of its leased area within the first 45 days after receiving the executed lease from BOEM and BOEM approves that application, no rent payment would be due on the relinquished portion of the lease area. Later relinquishments of any portion of the lease area would reduce the lessee's rent payments starting in the year following BOEM's approval of the relinquishment.

A lease issued under 30 CFR part 585 confers on the lessee the right to one or more project easements, without further competition, for the purpose of installing gathering, transmission, and distribution cables, pipelines, and appurtenances on the OCS as necessary for the full enjoyment of the lease. A lessee must apply for the project easement as part of the COP or SAP, as provided under Subpart F of 30 CFR part 585.

The lessee also must pay rent for any project easement associated with the lease. Rent commences on the date that BOEM approves the COP that describes the project easement (or any modification of such COP that affects the easement acreage), as outlined in 30 CFR 585.507. Annual rent for a project easement $5 per acre per year, subject to a minimum of $450 per year. If the COP revision results in increased easement acreage, additional rent would be due at the time the COP revision is approved.

b. Operating Fee: For purposes of calculating the initial annual operating fee under 30 CFR 585.506, BOEM applies an operating fee rate to a proxy for the wholesale market value of the electricity expected to be generated from the project during its first 12 months of operations. This initial payment will be prorated to reflect the period between the commencement of commercial operations and the lease anniversary. The initial annual operating fee must be paid within 90 days of the commencement of commercial operations. Thereafter, subsequent annual operating fees must be paid on or before the lease anniversary.

The subsequent annual operating fees will be calculated by multiplying the operating fee rate by the imputed wholesale market value of the projected annual electric power production. For the purposes of this calculation, the imputed market value will be the product of the project's annual nameplate capacity, the total number of hours in a year (8,760), the capacity factor, and the annual average price of electricity derived from a regional wholesale power price index. For example, the annual operating fee for a 976-megawatt (MW) wind facility operating at a 40 percent capacity (i.e., capacity factor of 0.4) with a regional wholesale power price of $40 per megawatt hour (MWh) and an operating fee rate of 0.02 would be calculated as follows:

i. Operating Fee Rate: The operating fee rate is the share of the imputed wholesale market value of the projected annual electric power production due to the ONRR as an annual operating fee. For the lease areas, BOEM proposes to set the fee rate at 0.02 (2 percent) for the entire life of commercial operations.

ii. Nameplate Capacity: Nameplate capacity is the maximum rated electric output, expressed in MW, which the turbines of the wind facility under commercial operations can produce at their rated wind speed as designated by the turbine's manufacturer.

iii. Capacity Factor: The capacity factor relates to the amount of energy delivered to the grid during a period of time compared to the amount of energy the wind facility would have produced at full capacity during that same period of time. BOEM will set the capacity factor at 0.4 (i.e., 40 percent) for the year in which the commercial operations begin and for the first 6 years of commercial operations on the lease. At the end of the sixth year, BOEM may adjust the capacity factor to reflect the performance over the previous 5 years based upon the actual metered electricity generation at the delivery point to the electrical grid. BOEM may make similar adjustments to the capacity factor once every 5 years thereafter.

iv. Wholesale Power Price Index: Under 30 CFR 585.506(c)(2)(i), the wholesale power price, expressed in dollars per MWh, is determined at the time each annual operating fee payment is due. For the leases offered in this sale, BOEM will use the ISO New England .H.INTERNAL_HUB. A similar price dataset may also be used and may be posted by BOEM at https://www.boem.gov for reference.

c. Financial Assurance: Within 10-business days after receipt of the unsigned copy of the lease, the provisional winner must file financial assurance in accordance with 30 CFR 585.225(b)(2). The provisional winner must provide an initial lease-specific bond or other BOEM-approved financial assurance instrument in the amount of 12 months' rent. The provisional winner may meet financial assurance requirements by posting a surety bond or other financial assurance instrument or alternative as provided in 30 CFR 585.526 through 585.529. BOEM encourages the provisional winners to discuss financial assurance requirements with BOEM as soon as possible after the auction has concluded.

BOEM will base the amount of financial assurance (for all SAP, COP, and decommissioning activities) on cost estimates for meeting all accrued lease obligations at the respective stages of development. The required amount of supplemental and decommissioning financial assurance will be determined on a case-by-case basis.

The payment terms described above can be found in Addendum B of the lease, which is available at: https://www.boem.gov/renewable-energy/state-activities/maine/gulf-maine.

IX. Bidder's Financial Form

Each bidder must submit to BOEM the information listed in the BFF referenced in this FSN. A copy of the form is available at https://www.boem.gov/renewable-energy/state-activities/maine/gulf-maine. In its BFF, each bidder must designate the email address that it will use to create an account in https://www.pay.gov account. BOEM must receive BFFs, including Conceptual Strategies, no later than September 27, 2024. If a bidder does not submit a BFF for this sale by the deadline, BOEM, in its sole discretion, may grant an extension to that bidder only if BOEM determines the bidder's failure to timely submit a BFF was caused by events beyond the bidder's control. The BFF is required to be executed by an authorized representative listed in the bidder's qualification package on file with BOEM. BFFs submitted by bidders for previous lease sales will not satisfy the requirements of this auction.

For this sale (ATLW-11), BOEM will accept bidders' BFFs and Conceptual Strategies electronically or by mail. Instructions for submission can be found in the BFF. The BFF must be executed on paper with a wet signature or with the application of a digital signature by an authorized representative listed on the legal qualification card currently on file with BOEM as authorized to bind the company. Winning bidders who have committed to bidding credit(s) must meet the bidding credit requirements no later than submission of their first Facility Design Report (FDR) or the tenth lease anniversary, whichever is sooner.

X. Bid Deposit

A bid deposit is an advance cash payment submitted to BOEM to participate in the auction. ONRR will notify the bidders that they have access to the Bid Deposit Form in pay.gov, and bidders must use the Bid Deposit Form on the https://www.pay.gov website to submit a deposit. Bidders may need to create an account in pay.gov to access the Bid Deposit Form and submit a deposit. Each bidder must submit a bid deposit of $2,000,000 for eligibility to bid on one lease area, or $4,000,000 for eligibility to bid on two lease areas, no later than October 11, 2024. Any bidder who fails to submit the bid deposit by this deadline may be disqualified from participating in the auction. BOEM will consider extensions to this deadline only if BOEM, in its sole discretion, determines that the failure to timely submit the bid deposit was caused by events beyond the bidder's control.

Following the auction, bid deposits will be applied against the winning bid and other obligations owed to BOEM. Once BOEM has announced the provisional winners, BOEM will coordinate with ONRR to refund bid deposits to the other bidders.

If BOEM offers a lease to a provisional winner and that bidder fails to timely return the signed lease, establish financial assurance, or pay the balance of its bid for the lease area, BOEM may require forfeiture of the bidder's $2,000,000 bid deposit for the lease area. In such a circumstance, BOEM may determine which bid would have won in the absence of the bid previously determined to be the winning bid and may offer a lease to this next highest eligible bidder. This process may be repeated if needed.

XI. Minimum Bid

The minimum bid is the lowest dollar amount per acre that BOEM will accept as a winning bid and is the amount at which BOEM will start the bidding in the auction. BOEM proposes a minimum bid of $50.00 per acre for this lease sale.

XII. Auction Procedures

a. Multiple-Factor Bidding Auction: BOEM will use a multiple factor auction format for this lease sale. Under 30 CFR 585.113, multiple factor auction means an auction that involves the use of bidding credits to incentivize goals or actions that support public policy objectives or maximize public benefits through the competitive leasing auction process. For any multiple factor auction, the monetary value of the bidding credits, if any, is added to the value of the cash bids to determine the highest bidder. The bid made by a particular bidder in each round of this lease sale will represent the sum of the monetary factor (cash bid) and the value of any non-monetary factors in the form of bidding credits. Bidders will be limited to bidding for two lease areas at a time, including at most one lease area in the North Region. BOEM will start the auction using the minimum bid price for each lease area and will increase these prices incrementally until no more than one bidder remains bidding on each lease area in the auction.

In response to public comments, BOEM is not revising the bidding credit percentages from those proposed in the PSN. The total bidding credits remain at 25 percent.

BOEM will grant bidding credits to bidders that commit to one or both of the following, subject to BOEM's evaluation of the bidder's BFF and Conceptual Strategy:

i. Supporting workforce training programs for the floating offshore wind industry or supporting the development of a domestic supply chain for the floating offshore wind industry, or a combination of both; or

ii. Establishing and contributing to a Fisheries Compensatory Mitigation Fund or contributing to an existing fund to mitigate potential negative impacts to Tribal subsistence fishing, commercial fisheries, and for-hire recreational fisheries caused by offshore wind development in the Gulf of Maine.

These bidding credits are intended to:

i. Enhance, through training, the floating offshore wind workforce and/or enhance the establishment of a domestic supply chain for floating offshore wind manufacturing, assembly, or services, both of which will contribute to the expeditious and orderly development of offshore wind resources on the OCS;

ii. Support the expeditious and orderly development of OCS resources by mitigating potential direct impacts from proposed projects and encouraging the investment in infrastructure germane to the floating offshore wind industry; and

iii. Minimize potential economic effects on Tribal subsistence fishing, commercial fisheries, and for-hire recreational fisheries impacted by potential floating offshore wind development, as coordination with commercial fisheries, for-hire recreational fisheries, and Tribes whose subsistence fishing is impacted by wind energy operations in the OCS area of the Gulf of Maine will enable development of the lease area to advance.

b. Changes to Auction Rules: BOEM will be employing the BOEM Auction System for sales held in 2024. The auction format remains an ascending clock auction with multiple-factor bidding. However, there are five main changes to the ascending clock auction rules in the BOEM Auction System, as follows:

i. If a bidder decides to bid on a different lease area in a given round of the auction, it may submit a bid to reduce demand for the lease area it bid on in the previous round and, simultaneously, submit a bid to increase demand for another lease area. This allows a bidder the option to switch to another lease area if the price of the first lease area exceeds the specified bid price.

ii. Provisional winners will no longer be determined using a two-step process. The auction rules are implemented in a way such that, when the auction concludes, the bidder who remains on a lease area after the final round becomes its provisional winner. There will be no additional processing step.

iii. The auctions will use a `second price' rule. A given lease area will be won by the bidder that submitted the highest bid amount for the lease area, but the winning bidder will pay the highest bid amount at which there was competition (i.e., the `second price').

iv. Each bidder's bidding credit will be expressed directly as a percentage of the final price for the lease.

v. Any bid for multiple lease areas will be treated as independent bids for those lease areas, rather than as a package bid.

All five of these changes are applicable to the ATLW-11 sale. All potential bidders should review the complete Auction Procedures for Offshore Wind Lease Sales (Version 1) located at: https://www.boem.gov/renewable-energy/lease-and-grant-information.

c. The Auction: Using an online bidding system to host the auction, BOEM will start the bidding for the lease areas as described below.

Table 4—Gulf of Maine Proposed Lease Areas and Minimum Bids
Lease area ID | Region | Acres | Minimum bid
OCS-A 0562 | North | 97,854 | $4,892,700
OCS-A 0563 | North | 105,682 | 5,284,100
OCS-A 0564 | South | 98,565 | 4,928,250
OCS-A 0565 | South | 103,191 | 5,159,550
OCS-A 0566 | South | 96,075 | 4,803,750
OCS-A 0567 | South | 117,780 | 5,889,000
OCS-A 0568 | South | 124,897 | 6,244,850
OCS-A 0569 | South | 106,038 | 5,301,900

BOEM will allow each qualified entity to bid for and ultimately win a maximum of two leases each, including a maximum of one lease area in the North Region as shown in Table 4. As such, a bidder can bid for and win a maximum of two South Region leases, or one North Region lease and one South Region lease—but cannot bid for or win both North Region leases.

The auction will be conducted in a series of rounds. Before each round, the auction system will announce the prices for each lease area offered in the auction. In Round 1, there is a single price for each lease area equal to the minimum bid price (also known as the `opening price' or `clock price of Round 1'). Each bidder can bid, at the opening prices, for as many lease areas as the bidder is eligible, as determined by the bidder's bid deposit, and subject to a maximum of one lease area in the North Region. After Round 1, the bidder's “processed demand” is one for each lease area for which the bidder bid in Round 1.⁸ The bidder's eligibility for Round 2 equals the number of lease areas for which the bidder bid in Round 1.

⁸ Bidders specify their demand for a lease area with either a 0 or 1 in the auction system. A demand of 1 indicates that the bidder is bidding for the lease area. Processed demand is the demand, either 0 or 1, of a bidder for a lease area following the processing of the bids for the round.

Starting in Round 2, each lease area is assigned a range of prices for the round. The start-of-round price is the lowest price in the range, and the clock price is the highest price in the range. A bidder still eligible to bid after the previous round can either (i) continue bidding at the new round's clock price(s) for the lease area(s) for which the bidder's processed demand is one, or (ii) submit a bid(s) to reduce demand for one (or both) of these lease area(s) at any price(s) in the range(s) for that round. A bid to reduce demand at some price indicates that the bidder is not willing to acquire that lease area at a price exceeding the specified bid price. A bidder that bids to reduce demand for one or two lease areas could bid to increase demand for up to the same number of other lease areas in the same round.

If an eligible bidder does not place a bid during the round for a lease area for which the bidder's processed demand is one, the auction system will consider this a request to reduce demand for that lease area at the round's start-of-round price. The bidder can nonetheless win that lease area if it is the last remaining bidder for that lease area.

After each round, the auction system processes the bids and determines each bidder's processed demand for each lease area and the posted prices for the lease areas. The bidder's eligibility for the next round will equal the number of lease areas for which the bidder had processed demand of one. If, after any round, a bidder's processed demand is zero for every lease area, the bidder's eligibility drops to zero and the bidder can no longer participate in the auction. The posted price is the price determined for each lease area after processing of all bids for a round. If only one bidder remains on a lease area, the posted price reflects the “second price” (i.e., the highest price at which there was competition for the lease area).⁹

⁹ The Auction Procedures for Offshore Wind Lease Sales provides details on how bids are prioritized and processed. Note that, in the ATLW-11 sale, the processing of any bid to increase demand will be subject to the constraints that: (1) the number of lease areas for which the bidder's processed demand is one does not exceed the bidder's eligibility for the round; and (2) the number of lease areas in the North Region for which the bidder's processed demand is one does not exceed one.

If, after the bids for the round have been processed, there is no lease area with excess demand (i.e., no lease areas have more than one bidder), the auction will end. When this occurs, each bidder with processed demand of one for a lease area will become the provisional winner for that lease area. Otherwise, the auction will continue with a new round in which the start-of-round price for each lease area equals the posted price of the previous round.

The increment by which the clock price exceeds the start-of-round price will be determined based on several factors including, but not necessarily limited to, the expected time needed to conduct the auction and the number of rounds that have already occurred. BOEM reserves the right to increase or decrease the increment as it deems appropriate.

The provisional winner of each lease area will pay the final posted price (less any applicable bidding credit) or risk forfeiting its bid deposit. A provisional winner will be disqualified if it is subsequently found to have violated auction rules or BOEM regulations, or otherwise engaged in conduct detrimental to the integrity of the competitive auction. If a bidder submits a bid that BOEM determines to be a provisionally winning bid, the bidder must sign the applicable lease documents, post financial assurance, and submit the outstanding balance (if any) of its winning bid (i.e., winning bid amount minus the applicable bid deposit and any applicable bidding credits) within 10 business days of receipt of the unsigned lease copy from BOEM, pursuant to 30 CFR 585.225(b). BOEM reserves the right to not issue the lease to the provisionally winning bidder if that bidder fails to: timely execute the lease and return it to BOEM, timely post adequate financial assurance, timely pay the balance of its winning bid, or otherwise comply with applicable regulations or the terms of the FSN. In any of these cases, the bidder will forfeit its bid deposit and BOEM reserves the right to offer a lease to the next highest eligible bidder as determined by BOEM.

BOEM will publish the names of the provisional winners of the lease areas and the associated prices shortly after the conclusion of the sale. Full bid results, including round-by-round results of the entire sale, will be published on BOEM's website after a review of the results and announcement of the provisional winners.

Additional information regarding the auction format:

i. Authorized Individuals and Bidder Authentication: An entity that is eligible to participate in the auction will identify on its BFF up to three individuals who will be authorized to bid on behalf of the company, including their names, business telephone numbers, and email addresses. All individuals will log into the auction system using Login.gov. Prior to the auction, each individual listed on the BFF form must register an account on Login.gov using the same email address that was listed in the BFF and associate a phishing-resistant multi-factor authentication method with its Login.gov account. A Fast Identity Online (FIDO)-compliant security key ¹⁰ is recommended as a phishing-resistant MFA method. The login.gov registration, together with the phishing-resistant MFA method will enable the individual to log into the auction system. Information on the login and authentication procedures for 2024 offshore wind lease sales is available online at: https://www.boem.gov/renewable-energy/lease-and-grant-information.

¹⁰ FIDO keys are produced by many manufacturers, such as Yubico and Google. They are widely available and can easily be purchased from Amazon, Best Buy, Walmart, or any other seller of electronics. The latest generation of the FIDO standard is FIDO2, and each authorized individual should obtain a key compliant with the FIDO2 authentication standard. FIDO keys are typically inserted into a computer's USB port, so the authorized individual should obtain a FIDO key compatible with their computer (USB-A or USB-C) or a USB adapter, as necessary.

After BOEM has processed the bid deposits, the auction contractor will send an email to the authorized individuals, inviting them to practice logging into the auction system on a specific day in advance of the mock auction. The Login.gov login process, along with the authentication for the auction helpdesk, will also be tested during the mock auction.

If an eligible bidder fails to submit a bid deposit or does not participate in the first round of the auction, BOEM will deactivate that bidder's login information.

ii. Timing of Auction: The auction will begin at 9:00 a.m. EDT on October 29, 2024. Bidders will be able to log into the auction system beginning 30 minutes before the start of the auction. BOEM recommends that bidders log in earlier than 9:00 a.m. EDT on that day to ensure that any login issues are resolved prior to the start of the auction.

iii. Messaging Service: BOEM and the auction contractors will use the auction system's messaging service to keep bidders informed on issues of interest during the auction. For example, BOEM could change the schedule at any time, including during the auction. If BOEM changes the schedule during the auction, it will use the messaging service to notify bidders that a revision has been made and will direct bidders to the relevant page. BOEM will also use the messaging service for other updates during the auction.

iv. Bidding Rounds: Bidders are allowed to place bids or to change their bids at any time during the bidding round. At the top of the bidding page, a countdown clock shows how much time remains in each round. Bidders will have until the end of the round to place bids. Bidders should do so according to the procedures described in the FSN and the Auction Procedures for Offshore Wind Lease Sales. Information about the round results will be made available only after the round has closed, so there is no strategic advantage to placing bids early or late in the round.

The Auction Procedures for Offshore Wind Lease Sales elaborates on the auction process described in this FSN. In the event of any inconsistency among the Auction Procedures for Offshore Wind Lease Sales, the Bidder Manual, and the FSN, the FSN is controlling.¹¹

¹¹ Installing the Google Authenticator app is required only if the app has not already been installed on the smartphone or tablet.

v. Alternate Bidding Procedures: Redundancy is the most effective way to mitigate technical and human issues during an auction. BOEM strongly recommends that bidders consider authorizing more than one individual to bid in the auction and confirming during the Mock Auction that each authorized individual is able to access the auction system. A mobile hotspot or other form of wireless access is helpful in case a company's main internet connection should fail. As a last resort, an authorized individual facing technical issues may request to submit its bid by telephone. To be authorized to place a telephone bid, an authorized individual must contact the help desk, at the phone number provided to bidders, before the end of the round. BOEM will authenticate the caller's identity. The caller must explain the reasons why a telephone bid needs to be submitted. BOEM may, in its sole discretion, permit or refuse to accept a request for the placement of a bid using this alternate telephonic bidding procedure. The auction help desk requires codes from the Google Authenticator mobile application as part of its procedure for identifying individuals who call for assistance. Prior to the auction, all individuals listed on the BFF should download the Google Authenticator mobile application ¹² onto their smartphone or tablet.¹³ The first time the individual logs into the auction system, the system will provide a QR token to be read into the Google Authenticator application. This token is unique to the individual and BOEM auctions. It enables the Google Authenticator application to generate time-sensitive codes that must be provided to the help desk representative as part of the user authentication process.

¹² The Google Authenticator app must be installed from either the Apple App Store or the Google Play Store.

¹³ Installing the Google Authenticator app is required only if the app has not already been installed on the smartphone or tablet.

d. 12.5 Percent Bidding Credit for Workforce Training or Supply Chain Development or a Combination of Both: This bidding credit allows a bidder to receive a credit of 12.5 percent in exchange for a commitment to make a qualifying monetary contribution (“Contribution”), in the same amount as the bidding credit received, to programs or initiatives that support workforce training programs for the U.S. floating offshore wind industry or development of a U.S. domestic supply chain for the floating offshore wind industry, or both, as described in the BFF Addendum and the lease. To qualify for this credit, the bidder must commit to the bidding credit requirements on the BFF and submit a Conceptual Strategy as described in the BFF Addendum.

i. The Contribution to workforce training must result in a better trained and/or larger domestic floating offshore wind workforce that will provide for more efficient operations via increasing the supply of fully trained personnel. Training of existing lessee employees, lessee contractors, or employees of affiliated entities will not qualify as an appropriate contribution toward fulfilling this bidding credit commitment.

ii. The Contribution to domestic supply chain development must result in overall benefits to the U.S. floating offshore wind supply chain available to all potential purchasers of floating offshore wind services, components, or subassemblies, not solely the lessee's project; and either: (i) the demonstrable development of new domestic capacity (including vessels) or the demonstrable buildout of existing capacity; or (ii) an improved floating offshore wind domestic supply chain by reducing the upfront capital or certification cost for manufacturing floating offshore wind components, including the building of facilities, the purchasing of capital equipment, and the certifying of existing manufacturing facilities.

iii. Contributions cannot be used to satisfy private cost shares for any federal tax or other incentive programs where cost sharing is a requirement. No portion of the Contribution may be used to meet the requirements of any other bidding credits for which the lessee qualifies.

iv. Bidders interested in obtaining a bidding credit could choose to contribute to workforce training programs, domestic supply chain initiatives, or a combination of both. The Conceptual Strategy must describe verifiable actions that the lessee will take that will allow BOEM to confirm compliance once the lessee has submitted documentation that shows it has satisfied the bidding credit commitment. The Contribution must be tendered in full, and the lessee must provide documentation evidencing it has made the Contribution and complied with applicable requirements, no later than the date the lessee submits its first FDR.

v. Contributions to workforce training must promote and support one or more of the following purposes: (i) Union apprenticeships, labor management training partnerships, stipends for workforce training, or other technical training programs or institutions focused on providing skills necessary for the planning, design, construction, operation, maintenance, or decommissioning of floating offshore wind energy projects in the United States; (ii) Maritime training necessary for the crewing of vessels to be used for the construction, servicing, and/or decommissioning of floating wind energy projects in the United States; (iii) Training workers in skills or techniques necessary to manufacture or assemble floating offshore wind components, subcomponents, or subassemblies (examples of areas involving these skills and techniques include welding; wind energy technology; hydraulic maintenance; braking systems; mechanical systems, including blade inspection and maintenance; or computers and programmable logic control systems); (iv) Tribal floating offshore wind workforce development programs or training for Tribal citizens or employees of an Indian Economic Enterprise ¹⁴ in skills necessary to participate in the floating offshore wind industry; or (v) Training in any other job skills that the lessee can demonstrate are necessary for the assessment, planning, design, construction, operation, maintenance, environmental monitoring, or decommissioning of floating offshore wind energy projects in the United States OCS.

¹⁴ https://www.bia.gov/sites/default/files/dup/assets/as-ia/ieed/Primer%20on%20Buy%20Indian%20Act%20508%20Compliant%202.6.18(Reload).pdf.

vi. Contributions to domestic supply chain development must promote and support one or more of the following: (i) development of a domestic supply chain for the floating offshore wind industry, including manufacturing of components and sub-assemblies and the expansion of related services; (ii) domestic Tier 2 ¹⁵ and Tier 3 ¹⁶ floating offshore wind component suppliers and domestic Tier-1 ¹⁷ supply chain efforts, including quay-side fabrication; (iii) technical assistance grants to help U.S. manufacturers re-tool or certify (e.g., ISO-9001) for floating offshore wind manufacturing; (iv) development of Jones Act-compliant vessels for the construction, servicing, and/or decommissioning of floating wind energy projects in the United States, including semi-submersible barges for use during quayside manufacturing, assembly, or installation; (v); purchase and installation of self-propelled modular transporter systems (SPMTs), lift cranes capable of installing foundations, towers, and nacelles quayside, and domestic mooring manufacturing facilities; (vi) port infrastructure related to floating offshore wind component manufacturing and preparation of quayside manufacturing and assembly areas for the construction and deployment of floating foundations, or other components of floating offshore wind turbines; (vii) establishing a new or existing bonding support reserve or revolving fund available to all businesses providing goods and services to floating offshore wind energy companies, including disadvantaged businesses ¹⁸ and/or Indian Economic Enterprises; or (viii) other supply chain development efforts that the lessee can demonstrate further the manufacturing of floating offshore wind components or subassemblies or the provision of floating offshore wind services in the United States.

¹⁵ Tier 2: Subassemblies are the systems that have a specific function for a Tier 1 component. They may include subassemblies of a number of smaller parts, such as a pitch system for blades. Tier 2 manufacturers contract with Tier 1 suppliers as a subcontractor or vendor.

¹⁶ Tier 3: Subcomponents are commonly available items that are combined into Tier 2 subassemblies, such as motors, bolts, and gears. Tier 3 manufacturers are typically vendors that provide components to Tier 2 suppliers.

¹⁷ Tier 1 components examples include the primary offshore wind components such as the blades, nacelles, towers, foundations, and cables. Tier 1 components are the major products that are purchased by an offshore wind project developer, such as the wind turbine, foundation, or cables. Tier 1 suppliers are primary suppliers that contract directly with the project developer. Contributions for Tier 1 supply chain development can include infrastructure necessary for quayside manufacturing, fabrication, or assembly.

¹⁸ A disadvantaged business entity would be one at least 51% owned and controlled by a socially and economically disadvantaged individual or individuals as defined by the Small Business Administration.

vii. Documentation: If a lease is issued pursuant to a winning bid that includes a bidding credit for workforce training or supply chain development, the lessee must provide documentation showing that the lessee has met the financial commitment before the lessee submits the first FDR for the lease. The documentation must allow BOEM to objectively verify the amount of the Contribution and the beneficiary(ies) of the Contribution.

At a minimum, the documentation must include: all written agreements between the lessee and beneficiary(ies) of the Contribution, which must detail the amount of the Contribution(s) and how it will be used by the beneficiaries of the Contribution(s) to satisfy the goals of the bidding credit for which the Contribution was made; all receipts documenting the amount, date, financial institution, and the account and owner of the account to which the Contribution was made; and sworn statements by the entity that made the Contribution and the beneficiary(ies) of the Contribution attesting that all information provided in the above documentation is true and accurate. The documentation would need to describe how the funded initiative or program has advanced, or is expected to advance, U.S. floating offshore wind workforce training or supply chain development. The documentation must also provide qualitative and/or quantitative information that includes the estimated number of trainees or jobs supported, or the estimated leveraged supply chain investment resulting or expected to result from the Contribution. The documentation must contain any information called for in the Conceptual Strategy that the lessee submitted with its BFF and to allow BOEM to objectively verify (i) the amount of the Contribution and the beneficiary(ies) of the Contribution, and (ii) compliance with the bidding credit criteria provided in Addendum C of the lease. If the lessee's implementation of its Conceptual Strategy changes due to market needs or other factors, the lessee must explain the changed approach. BOEM reserves all rights to determine that bidding credit criteria have not been satisfied if changes from the lessee's Conceptual Strategy result in the lessee not meeting the criteria for the bidding credit described in Addendum C of the lease.

viii. Enforcement: The commitment for the bidding credit will be made in the BFF and would be included in a lease addendum that will bind the lessee and all future assignees of the lease. If BOEM were to determine that a lessee or assignee had failed to satisfy the requirements of the bidding credit, or if a lessee were to relinquish or otherwise fail to develop the lease by the tenth anniversary date of lease issuance, the amount corresponding to the bidding credit awarded will be immediately due and payable to ONRR with interest from the lease Effective Date. The interest rate would be the underpayment interest rate identified by ONRR. The lessee would not be required to pay said amount if the lessee satisfied its bidding credit requirements but failed to develop the lease by the tenth lease anniversary. BOEM could, at its sole discretion, extend the documentation deadline beyond the first FDR submission or extend the lease development deadline beyond the 10-year timeframe.

e. 12.5 percent Bidding Credit for Fisheries Compensatory Mitigation Fund: The second bidding credit allows a bidder to receive a credit of 12.5 percent of its bid in exchange for a commitment to establish and contribute to a Fisheries Compensatory Mitigation Fund, or to contribute to a similar existing fund, to compensate for potential negative impacts to Tribal subsistence fishing, commercial fisheries, and for-hire recreational fisheries in the Gulf of Maine resulting from project development under the Lease. The term “Tribal subsistence fishing” for the purpose of this bidding credit refers to a fishery where the fish caught are shared and consumed directly by the families, kin, and fellow Tribal members of the fishers rather than being sold. The term “commercial fisheries” refers to commercial and processing businesses engaged in the act of catching and marketing fish and shellfish for sale from the Gulf of Maine. The term “for-hire recreational fisheries” refers to charter and headboat fishing operations involving vessels-for-hire engaged in recreational fishing in the Gulf of Maine that are hired for a charter fee by an individual or group of individuals for the exclusive use of that individual or group of individuals. Lessees are encouraged to coordinate with other lessees to establish or contribute to a regional fund. The regional fund should ensure lease-specific claims are accounted for. At a minimum, the compensation must address the following:

• Tribal subsistence loss;

• Gear loss or damage; and

• Lost fishing income in Gulf of Maine wind energy lease areas.

The Fisheries Compensatory Mitigation Fund will assist Tribal subsistence fishing, commercial fisheries, and for-hire recreational fisheries directly impacted by Tribal subsistence, income, or gear losses due to offshore wind activities on offshore wind leases or easements and is intended to address the impacts identified in BOEM's environmental and project reviews. The compensatory mitigation must cover impacts to Tribal subsistence fishing, commercial fisheries, and for-hire recreational fisheries that result directly from the preconstruction, construction, operations, and decommissioning of an offshore wind project being developed in the Gulf of Maine wind energy leases or easements. The fund must be established and the Contribution made before the lessee submits the lease's first FDR or before the fifth lease anniversary, whichever is sooner. To qualify for this credit, the bidder must commit to the bidding credit requirements on the BFF and submit a Conceptual Strategy as described in the BFF Addendum.

Bidders applying for the Fisheries Compensatory Mitigation Fund bidding credit must submit their Conceptual Strategy along with their BFF, further described below and in the BFF Addendum. The Conceptual Strategy would certify the actions that the lessee intends to take would allow BOEM to verify compliance when the lessee seeks to demonstrate satisfaction of the requirements for the bidding credit. The lessee will be required to provide documentation showing that the lessee has met the commitment and complied with the applicable bidding credit requirements before the lessee submits the lease's first FDR or before the fifth lease anniversary, whichever is sooner.

The fund must compensate Tribal subsistence fishers, commercial fishers, and for-hire recreational fishers for gear loss or damage, as well as any income loss claims, and Tribal subsistence loss incurred as a result of any stage of offshore wind project development (pre-construction, construction, operations, and decommissioning) resulting from this lease. Loss claims may also result from impacts from the development of easements associated with this lease and/or the conduct of surveys on this lease before the establishment of the fund. Funds that have been determined to be in excess of those needed to compensate for gear loss or damage, income loss for commercial fisheries and for-hire recreational fishing, and Tribal subsistence fishing loss as a result of lease development, based on actuarial accounting, may be used to:

• support regional fisheries compensatory mitigation efforts for other Gulf of Maine and Atlantic OCS offshore wind projects,

• offset the cost of gear and navigational aid upgrades and other transitions for operating within a wind farm; or

• promote participation of fishers and fishing communities in the project development process or other programs that better enable the fishing and offshore wind industries to co-exist.

Any fund established or selected by the lessee to meet this bidding credit requirement must include a process for evaluating the actuarial status of funds at least every 5 years and publicly reporting information on fund disbursement and administrative costs at least annually.

The Fisheries Compensatory Mitigation Fund must be independently managed by a third party and must include trustees or board members from fishing stakeholder groups. The Fund must include fiduciary governance and strong internal controls, and must minimize administrative expenses. The Contribution may be used for fund startup costs, but the fund should minimize costs by leveraging existing processes, procedures, and information from BOEM's Draft Guidelines for Mitigating Impacts to Commercial and Recreational Fisheries on the Outer Continental Shelf, the Eleven Atlantic States' Fisheries Mitigation Project, or other sources.

i. Documentation: If a lease is awarded pursuant to a winning bid that includes a Fisheries Compensatory Mitigation Fund Bidding Credit, the lessee must provide written documentation to BOEM that demonstrates that it completed the full Contribution before it submits the lease's first FDR or before the fifth lease anniversary, whichever is sooner. The documentation must enable BOEM to objectively verify the Contribution has met all applicable requirements as outlined in Addendum C of the lease.

ii. At a minimum, this documentation must include:

(1) the procedures established to compensate for gear loss or damage resulting from all phases of the project development on the Lease (pre-construction, construction, operation, and decommissioning);

(2) the procedures established to compensate for income loss to commercial fisheries and for-hire recreational fisheries resulting from all phases of the project development on the Lease (pre-construction, construction, operation, and decommissioning);

(3) the procedures established to compensate for Tribal subsistence fishing loss resulting from all phases of the project development on the Lease (pre-construction, construction, operation, and decommissioning);

(4) the Fisheries Compensatory Mitigation Fund charter, including the governance structure, audit and public reporting procedures, and standards for paying compensatory mitigation for impacts to fishers from all phases of offshore wind development;

(5) all receipts documenting the amount, date, financial institution, and the account and owner of the account to which the Contribution was made; and

(6) sworn statements by the entity that made the Contribution, attesting to:

i. the amount and date(s) of the Contribution;

ii. that the Contribution is being (or will be) used in accordance with the bidding credit requirements in the lease; and

iii. that all information provided is true and accurate.

The documentation must contain any information specified in the Conceptual Strategy that was submitted with the BFF. If the lessee's implementation of its Conceptual Strategy changes due to market needs or other factors, the lessee must explain this change. BOEM reserves the right to determine that the bidding credit has not been satisfied if changes from the lessee's Conceptual Strategy result in the lessee not meeting the criteria for the bidding credit described in Addendum C of the lease.

iii. Enforcement: The commitment to the Fisheries Compensatory Mitigation Fund Bidding Credit will be made in the BFF. It will be included in Addendum C of the lease and will bind the lessee and all future assignees of the lease. If BOEM were to determine that a lessee or assignee had failed to satisfy the commitment at the time the first FDR is submitted, or by the fifth lease anniversary, whichever is sooner, the amount corresponding to the bidding credit awarded will be immediately due and payable to ONRR with interest from the lease effective date. The interest rate would be the underpayment interest rate identified by ONRR. The lessee would not be required to pay said amount if the lessee satisfied its bidding credit requirements by the time the first FDR is submitted, or the fifth lease anniversary, whichever is sooner. BOEM may, at its sole discretion, extend the documentation deadline beyond the first FDR or beyond the fifth lease anniversary.

XIII. Rejection or Non-Acceptance of Bids

BOEM reserves the right and authority to reject any and all bids that do not satisfy the requirements and rules of the auction, the FSN, or applicable regulations and statutes.

XIV. Anti-Competitive Review

Bidding behavior in this sale is subject to Federal antitrust laws. Following the auction, but before the acceptance of bids and the issuance of the lease, BOEM must “allow the Attorney General, in consultation with the Federal Trade Commission, thirty days to review the results of [the] lease sale.” 43 U.S.C. 1337(c)(1). If a provisional winner is found to have engaged in anti-competitive behavior in connection with this lease sale, BOEM may reject its provisionally winning bid. Compliance with BOEM's auction procedures and regulations is not an absolute defense against violations of antitrust laws.

Anti-competitive behavior determinations are fact specific. However, such behavior may manifest itself in several different ways, including, but not limited to:

1. an express or tacit agreement among bidders not to bid in an auction, or to bid a particular price;

2. an agreement among bidders not to bid against each other; or

3. other agreements among bidders that have the potential to affect the final auction price.

Pursuant to 43 U.S.C. 1337(c)(3), BOEM may decline to award a lease if the Attorney General, in consultation with the Federal Trade Commission, determines that awarding the lease may be inconsistent with antitrust laws.

For more information on whether specific communications or agreements could constitute a violation of Federal antitrust law, please see https://www.justice.gov/atr and consult legal counsel.

XV. Process for Issuing the Lease

Once all post-auction reviews have been completed to BOEM's satisfaction, BOEM will provide an unsigned copy of the lease to the provisional winner in accordance with 30 CFR 585.225. Within 10 business days after receipt of the unsigned copy, the provisional winner must:

1. execute the lease and return it to BOEM;

2. file financial assurance as required under 30 CFR 585.516 through 585.529, as applicable; and

3. pay by electronic funds transfer (EFT) the balance owed (the winning cash bid less the applicable bid deposit), if any. BOEM requires bidders to use EFT procedures (not https://www.pay.gov, the website bidders used to submit bid deposits) for payment of the balance, following the detailed instructions contained in the “Instructions for Making Electronic Payments” available on BOEM's website at https://www.boem.gov/sites/default/files/documents/renewable-energy/state-activities/EFT-Payment-Instructions.pdf.

BOEM will not execute the lease until all three requirements above have been satisfied, the provisional winner has established financial assurance pursuant to 30 CFR 585.516 and 585.225, and BOEM has processed the provisional winner's payment. BOEM, at its discretion, may extend the 10-business-day deadline for executing a lease, filing the required financial assurance, and paying the balance owed, pursuant to 30 CFR 585.225(d).

If the provisional winner does not meet these requirements or otherwise fails to comply with applicable regulations or the terms of the FSN, BOEM reserves the right to not issue the lease to that bidder. In such a case, the provisional winner will forfeit its bid deposit. Also, in such a case, BOEM reserves the right to offer the lease to the next highest eligible bidder as determined by BOEM.

Within 45 calendar days after receiving a copy of the executed lease from BOEM, the provisional winner must pay the first 12 months' rent using the “ONRR Renewable Energy Initial Rental Payments” form available at: https://www.pay.gov/public/form/start/27797604. Subsequent annual rent payments must be made following the detailed instructions available on ONRR's website at: https://onrr.gov/paying/payment-options?tabs=rent-payments.

XVI. Non-Procurement Debarment and Suspension Regulations

Pursuant to 43 CFR part 42, subpart C, an OCS renewable energy lessee must comply with the Department of the Interior's non-procurement debarment and suspension regulations at 2 CFR parts 180 and 1400. The lessee must also communicate this requirement to persons with whom the lessee does business relating to this lease by including this requirement as a term or condition in their contracts and other transactions.

XVIII. Changes to Auction Details

BOEM has the discretion to change any auction detail specified in this FSN, including the date and time, if events outside BOEM's control have been found to interfere with a fair and proper lease sale. Such events may include, but are not limited to, natural disasters (e.g., earthquakes, hurricanes, floods, and blizzards), wars, riots, act of terrorism, fire, strikes, civil disorder, Federal Government shutdowns, cyberattacks against relevant information systems, or other events of a similar nature. In case of such events, BOEM will notify all qualified bidders via email, phone, and BOEM's website at https://www.boem.gov/renewable-energy/state-activities/maine/gulf-maine. Bidders should call BOEM's Auction Manager at (703) 787-1121 if they have concerns.

XIX. Withdrawal of Blocks

As provided in BOEM's regulations at 30 CFR 585.224(e), BOEM may withdraw all or part of a lease area from the lease sale between auction closure and lease execution. In the event that a portion of the lease area is withdrawn, the provisional winner has the option to refuse the lease without penalty, to propose new lease terms for BOEM's concurrence, or to accept the lease with the reduced area.

XX. Appeals

Procedures for reconsideration of rejected bids are provided in BOEM's regulations at 30 CFR 585.224 and 585.118(c). BOEM's decision on a bid is the final action of the Department of the Interior, and is not subject to appeals to the Office of Hearings and Appeals, but an unsuccessful bidder may appeal that decision to the BOEM Director as provided by 30 CFR 585.118(c).

XXI. Protection of Privileged and Confidential Information

BOEM will protect privileged or confidential information that the lessee submits, as authorized by the Freedom of Information Act (FOIA), BOEM's regulations at 30 CFR 585.114, or other applicable statutes. If the lessee wishes to protect the confidentiality of information, the lessee should clearly mark it “Contains Privileged or Confidential Information” and consider submitting such information as a separate attachment. BOEM will not disclose such information, except as required by the FOIA. If your submission is requested under the FOIA, your information will only be withheld if a determination is made that one of the FOIA's exemptions to disclosure applies. Such a determination will be made in accordance with the Department's FOIA regulations and applicable law. Labeling information as privileged or confidential will alert BOEM to more closely scrutinize whether it warrants withholding. Further, BOEM will not treat as confidential aggregate summaries of otherwise nonconfidential information.

Authority: 43 U.S.C. 1337(p); 30 CFR 585.210 and 585.214.

Elizabeth Klein,
Director, Bureau of Ocean Energy Management.

[FR Doc. 2024-21081 Filed 9-16-24; 8:45 am]

BILLING CODE 4340-98-P